DEPARTMENT OF TRANSPORTATION

Federal Aviation Administration

14 CFR Part 71

[Docket No. FAA-2022-1004; Airspace Docket No. 22-ACE-16]

RIN 2120-AA66

Amendment of Class E Airspace; Liberal, KS

AGENCY: Federal Aviation Administration (FAA), DOT.

ACTION: Final rule.

SUMMARY: This action amends the Class E airspace at Liberal, KS. This action is the result of an airspace review conducted as part of the decommissioning of the Liberal very high frequency (VHF) omnidirectional range (VOR) as part of the VOR Minimal Operational Network (MON) Program. The name and geographic coordinates of the airport and the name of the navigational aid are also being updated to coincide with the FAA's aeronautical database.

DATES: Effective 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace, and the Class E airspace extending upward from 700 feet above the surface at Liberal Mid-America Regional Airport, Liberal, KS, to support instrument flight rule operations at this airport.

History

The FAA published a notice of proposed rulemaking (NPRM) in the Federal Register (87 FR 51620; August 23, 2022) for Docket No. FAA-2022-1004 to amend the Class E airspace at Liberal, KS. Interested parties were invited to participate in this rulemaking effort by submitting written comments on the proposal to the FAA. No comments were received.

Class E airspace designations are published in paragraphs 6002 and 6005, respectively, of FAA Order JO 7400.11G, dated August 19, 2022, and effective September 15, 2022, which is incorporated by reference in 14 CFR 71.1. The Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Differences From the NPRM

Subsequent to publication, it was discovered that the name of the airport was not updated in the Class E airspace area designated as a surface area airspace legal description. That error has been corrected in this action.

The Rule

This amendment to 14 CFR part 71:

Amends the Class E surface airspace at Liberal Mid-America Regional Airport, Liberal, KS, by removing the Liberal VORTAC and associated extensions from the airspace legal description; updates the name (previously Liberal Municipal Airport) and geographic coordinates of the airport to coincide with the FAA's aeronautical database; and updates the outdated terms “Notice to Airmen” with “Notice to Air Missions” and “Airport/Facility Directory” with “Chart Supplement”;

And amends the Class E airspace extending upward from 700 feet above the surface within a 6.7-mile (increased form a 6.4-mile) radius of Liberal Mid-America Regional Airport; removes the Liberal VORTAC and associated extensions from the airspace legal description; updates the extension south of the airport to 3.9 (increased from 3) miles each side of the 180° bearing from the Liberal Mid-America Regional: RWY 35-LOC (previously ILS localizer course) extending from the 6.7-mile (increased from 6.4-mile) radius of the airport to 11.9 (decreased from 12) miles south of the airport; and updates the name (previously Liberal Municipal Airport) and geographic coordinates of the airport and the name of the Liberal Mid-America Regional: RWY 35-LOC (previously Liberal Municipal Airport ILS) to coincide with the FAA's aeronautical database.

This action is due to an airspace review conducted as part of the decommissioning of the Liberal VOR, which provided navigation information for the instrument procedures this airport, as part of the VOR MON Program.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11G, Airspace Designations and Reporting Points, dated August 19, 2022, and effective September 15, 2022, is amended as follows:

Paragraph 6002 Class E Airspace Areas Designated as Surface Areas

* * * * *

ACE KS E2 Liberal, KS [Amended]

Liberal Mid-America Regional Airport, KS

(Lat. 37°02′38″ N, long. 100°57′36″ W)

Within a 4.2-mile radius of Liberal Mid-America Regional Airport. This Class E airspace area is effective during the specific dates and times established in advance by a Notice to Air Missions. The effective dates and times will thereafter be continuously published in the Chart Supplement.

Paragraph 6005 Class E Airspace Areas Extending Upward From 700 Feet or More Above the Surface of the Earth

* * * * *

ACE KS E5 Liberal, KS [Amended]

Liberal Mid-America Regional Airport, KS

(Lat. 37°02′38″ N, long. 100°57′36″ W)

Liberal Mid-America Regional: RWY 35-LOC

(Lat. 37°03′27″ N, long. 100°57′23″ W)

That airspace extending upward from 700 feet above the surface within a 6.7-mile radius of Liberal Mid-America Regional Airport; and within 3.9 miles each side of the 180° bearing from the Liberal Mid-America Regional: RWY 35-LOC extending from the 6.7-mile radius of the airport to 11.9 miles south of the airport.

Issued in Fort Worth, Texas, on November 22, 2022.
Steven T. Phillips,
Acting Manager, Operations Support Group, ATO Central Service Center.

[FR Doc. 2022-25817 Filed 11-25-22; 8:45 am]

BILLING CODE 4910-13-P